DEPARTMENT OF ENERGY

Federal Energy Regulatory Commission

[Docket No. AD07-11-000]

Demand Response in Wholesale Markets; Notice of Technical Conference on Demand Response in Wholesale Markets

February 16, 2007.

A technical conference will be held on Monday, April 23, 2007, at 9 a.m. (EST), on integrating demand response in wholesale markets, including items previously set for conference in a Commission order.¹ The technical conference will be held in the Commission Meeting Room at the Federal Energy Regulatory Commission, 888 First Street, NE., Washington, DC 20426. The conference will be open for the public to attend and advance registration is not required. The agenda will be announced in a subsequent notice.

¹ PJM Interconnection, L.L.C., 117 FERC ¶ 61,218, at P 45 (2006).

Transcripts of the conference will be immediately available from Ace Reporting Company (202-347-3700 or 1-800-336-6646) for a fee. They will be available for the public on the Commission's eLibrary system seven calendar days after FERC receives the transcript.

A free webcast of this event will be available through http://www.ferc.gov. Anyone with Internet access who desires to view this event can do so by navigating to www.ferc.gov's Calendar of Events and locating this event in the Calendar. The event will contain a link to its webcast. The Capitol Connection provides technical support for the webcasts. It also offers access to this event via television in the Washington, DC area and via phone bridge for a fee. Visit http://www.CapitolConnection.org or contact Danelle Perkowski or David Reininger at the Capitol Connection 703-993-3100 for information about this service.

Commission conferences are accessible under section 508 of the Rehabilitation Act of 1973. For accessibility accommodations please send an e-mail to accessibility@ferc.gov or call toll free 866-208-3372 (voice) or 202-208-1659 (TTY), or send a FAX to 202-208-2106 with the required accommodations.

For further information on the technical conference, please contact:

David Kathan (Technical Information), Office of Markets, Tariffs and Rates, Federal Energy Regulatory Commission, 888 First Street, NE., Washington, DC 20426, (202) 502-6404, David.Kathan@ferc.gov.

Aileen Roder (Legal Information), Office of the General Counsel, Federal Energy Regulatory Commission, 888 First Street, NE., Washington, DC 20426, (202) 502-6022, Aileen.Roder@ferc.gov.

Magalie R. Salas,
Secretary.

[FR Doc. E7-3219 Filed 2-23-07; 8:45 am]

BILLING CODE 6717-01-P